ENVIRONMENTAL PROTECTION AGENCY

40 CFR Part 51

[EPA-R09-OAR-2011-0130; FRL-9442-3]

Regional Haze State Implementation Plan; State of Nevada; Extension of Comment Period

AGENCY: Environmental Protection Agency (EPA).

ACTION: Proposed rule; Extension of public comment period.

SUMMARY: On June 22, 2011, the EPA proposed to approve the Nevada State Implementation Plan (SIP) to implement the regional haze program for the first planning period through July 31, 2018. The EPA is extending the deadline for written comments on the proposed approval of the Regional Haze SIP by 30 days to August 22, 2011. The EPA received requests for an extension from attorneys representing a consortium of environmental groups and the Moapa Paiutes Tribe. The requests were based on a need for more time to review the technical materials that form the basis of Nevada's Regional Haze SIP and EPA's proposed approval. The EPA finds that the request is reasonable given the complexity of the Regional Haze Rule requirements and EPA's proposed approval of the technical analyses presented in Nevada's plan.

DATES: The comment period for the proposed rule published June 22, 2011 (76 FR 36450), is extended. Comments must be received on or before August 22, 2011.

ADDRESSES: Submit your comments, identified by Docket Number EPA-R09-OAR-2011-0130, by one of the following methods:

1. Federal Rulemaking portal: http://www.regulations.gov. Follow the on-line instructions for submitting comments.

2. E-mail: Webb.Thomas@epa.gov.

3. Fax: 415-947-3579 (Attention: Thomas Webb).

4. Mail: Thomas Webb, EPA Region 9, Planning Office, Air Division, 75 Hawthorne Street, San Francisco, California 94105.

5. Hand Delivery or Courier: Such deliveries are only accepted Monday through Friday, 8:30 a.m.-4:30 p.m., excluding Federal holidays. Special arrangements should be made for deliveries of boxed information.

Instructions: Direct your comments to Docket ID No. EPA-R09-OAR-2011-0130. Our policy is that EPA will include all comments received in the public docket without change. EPA may make comments available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, EPA will include your e-mail address as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available (e.g., CBI or other information whose disclosure is restricted by statute). Certain other material, such as copyrighted material, will be publicly available only in hard copy form. Publicly available docket materials are available either electronically at http://www.regulations.gov or in hard copy at the Planning Office of the Air Division, Air-2, EPA Region 9, 75 Hawthorne Street, San Francisco, CA 94105. EPA requests you contact the individual listed in the FOR FURTHER INFORMATION CONTACT section to view the hard copy of the docket. You may view the hard copy of the docket Monday through Friday, 9 a.m.-5:30 p.m. PST, excluding Federal holidays.

FOR FURTHER INFORMATION CONTACT: Thomas Webb, U.S. EPA, Region 9, Planning Office, Air Division, Air-2, 75 Hawthorne Street, San Francisco, CA 94105. Thomas Webb can be reached at telephone number (415) 947-4139 and via electronic mail at webb.thomas@epa.gov.

Authority: 42 U.S.C. 7401 et seq.

Dated: July 12, 2011.
Thomas McCullough,
Acting Regional Administrator, Region 9.

[FR Doc. 2011-18568 Filed 7-21-11; 8:45 am]

BILLING CODE 6560-50-P